DEPARTMENT OF HEALTH AND HUMAN SERVICES

Indian Health Service

Meeting on American Indian/Alaska Native Lesbian, Gay, Bisexual, and Transgender Health Issues

AGENCY: Indian Health Service, HHS.

ACTION: Notice of meeting.

SUMMARY: The Indian Health Service (IHS) is seeking broad public input as it begins efforts to advance and promote the health needs of the American Indian/Alaska Native (AI/AN) Lesbian, Gay, Bisexual, and Transgender (LGBT) community.

DATES: The meeting will be held as shown below:

1. July 27, 2015 from 9:00 a.m. EST to 4:30 p.m. EST.

ADDRESSES: The meeting location is:

1. Rockville, MD—801 Thompson Avenue, Rockville, MD 20852.

Written statements may be submitted to Lisa Neel, MPH, Program Coordinator, Office of Clinical and Preventive Services, Indian Health Service, 801 Thompson Avenue, Suite 300, Rockville, MD 20852.

FOR FURTHER INFORMATION CONTACT: Lisa Neel, MPH, Program Coordinator, Office of Clinical and Preventive Services, Indian Health Service, 801 Thompson Avenue, Suite 300, Rockville, MD 20852, Telephone 301-443-4305. (This is not a toll-free number.)

SUPPLEMENTARY INFORMATION: The meeting will be open to the public. To facilitate the building security process, those who plan to attend should RSVP to Lisa Neel at lisa.neel@ihs.gov or by telephone at 301-443-4305. (This is not a toll-free number.) Public attendance may be limited to the space available. Members of the public may make statements during the meeting to the extent time permits and file written statements with the agency for its consideration. Written statements should be submitted to the address listed above. Summaries of the meeting will be available for public inspection and copying ten days following the meeting at the same address.

Dated: July 15, 2015.
Elizabeth A. Fowler,
Deputy Director for Management Operations, Indian Health Service.

[FR Doc. 2015-17962 Filed 7-21-15; 8:45 am]

BILLING CODE 4165-16-P